DEPARTMENT OF HEALTH AND HUMAN SERVICES

National Institutes of Health

Center for Scientific Review; Amended Notice of Meeting

Notice is hereby given of a change in the meeting of the Center for Scientific Review Special Emphasis Panel Fellowships: Learning, Memory, Language, Communication and Related Neuroscience. April 30, 2025, 9 a.m. to May 1, 2025, 8 p.m., National Institutes of Health, Rockledge II, 6701 Rockledge Drive, Bethesda, MD 20892 which was published in the Federal Register on March 26, 2025, 90 FR 13761, Doc. No. 2025-05072.

This meeting is being amended to change the meeting from a 2-day to a1-day meeting on April 30, 2025. The meeting is closed to the public.

Dated: March 31, 2025.
Melanie J. Pantoja,
Program Analyst, Office of Federal Advisory Committee Policy.

[FR Doc. 2025-05724 Filed 4-2-25; 8:45 am]

BILLING CODE 4140-01-P